FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002652NF.

Name: IFF, Inc.

Address: 452-A Plaza Drive, P.O. Box 45505, Atlanta, GA 30320.

Date Revoked: May 13, 2004.

Reason: Failed to maintain valid bonds.

License Number: 018007F.

Name: LCL America, Inc.

Address: 29 Burgess Drive, Glendale Heights, IL 60139.

Date Revoked: April 30, 2004.

Reason: Failed to maintain a valid bond.

License Number: 004179NF.

Name: Lilly & Associates-International Freight Forwarders, Inc.

Address: 9601 NW 33rd Street, Miami, FL 33172.

Date Revoked: April 30, 2004.

Reason: Failed to maintain valid bonds.

License Number: 016297NF.

Name: Multitrans, Inc.

Address: 2103 NW. 79th Avenue, Miami, FL 33122.

Date Revoked: April 30, 2004.

Reason: Failed to maintain valid bonds.

License Number: 004672F.

Name: National Bonded Warehouse, Inc. dba National Freight Express.

Address: 11451 NW. 36th Avenue, Miami, FL 33167.

Date: April 30, 2004.

Reason: Failed to maintain a valid bond.

License Number: 004290F.

Name: Neal Brothers, Inc.

Address: 1255 Necessary Lane, Charleston, SC 29405.

Date Revoked: April 21, 2004.

Reason: Surrendered license voluntarily.

License Number: 018072N.

Name: Oceanair Freight International, Inc.

Address: 4280 NW. 147th Terrace, Opalocka, FL 33054.

Date Revoked: May 5, 2004.

Reason: Failed to maintain a valid bond.

License Number: 018075F.

Name: Rapidus, LLC.

Address: 3345 NW. 116th Street, Miami, FL 33167.

Date Revoked: December 2, 2003.

Reason: Surrendered license voluntarily.

License Number: 004405F.

Name: Robert William Cisco dba Robert W. Cisco Customhouse Broker.

Address: 200 Box 32 Bldg. 14 B-1, 200 Crofton Road, Kenner, LA 70062.

Date Revoked: May 1, 2004.

Reason: Failed to maintain a valid bond.

License Number: 001199N.

Name: Suarez Shipping Services, Inc.

Address: 7819 W. 18th Lane, Hialeah, FL 33014.

Date Revoked: March 23, 2004.

Reason: Surrendered license voluntarily.

License Number: 017206NF.

Name: Trade Impact, LLC dba Tacoma Logistics.

Address: 1127 Broadway, Suite 203, Tacoma, WA 98402.

Date Revoked: May 7, 2004.

Reason: Failed to maintain valid bonds.

Sandra L. Kusumoto,
Director, Bureau of Consumer Complaints and Licensing.

[FR Doc. 04-11921 Filed 5-25-04; 8:45 am]

BILLING CODE 6730-01-P